DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including the use of automated collection techniques or other forms of information technology.

Proposed Project: Cross-Site Evaluation of the Minority Substance Abuse/HIV/Hepatitis Prevention Program—NEW

The cross-site evaluation builds on five previous grant programs funded by SAMHSA's Center for Substance Abuse Prevention (CSAP) to provide HIV prevention services for minority populations. The first two were planning grant programs and the last three were service grant programs. HIV Cohort 1 and HIV Cohort 2 funded 2-year planning grants in FY 2000 and FY 2001 respectively. HIV Cohort 3 funded 48 3-year grants in FY 2002, HIV Cohort 4 funded 22 5-year grants in FY 2003 and HIV Cohort 5 funded 46 4-year grants in FY 2004. The goals for the Cohort 3-5 grants were to add, increase, or enhance integrated substance abuse (SA) and HIV prevention services by providing supportive services and strengthening linkages between service providers for at-risk minority populations. The HIV Cohort 1-3 grants previously received OMB clearance No. 0930-0208.

The current HIV Cohort 6 Minority SA/HIV/Hepatitis Prevention Program funded 81 5-year grants in FY 2005 to community based organizations that are required to address the SAMSHA Strategic Prevention Framework (SPF) and participate in this cross-site evaluation. The grantees are expected to provide leadership and coordination on the planning and implementation of the SPF that targets minority populations and the minority reentry population in communities of color with high prevalence of SA, HIV/AIDS, and Hepatitis. The primary objectives of the cross-site evaluation are to: (1) Assess the process of adopting and implementing the SPF with the target populations; (2) measure the effectiveness of specified intervention strategies such as cultural enrichment activities, educational and vocational services; and/or computer-based curricula; and (3) determine the success of the program in delaying, preventing, and/or reducing the use of alcohol, tobacco, and other drugs (ATOD) among the target populations. The grantees are expected to provide an effective prevention process, direction, and a common set of goals, expectations, and accountabilities to be adapted and integrated at the community level. While the grantees have substantial flexibility in choosing their individual evidence-based programs, they are all required to base them on the five steps of the SPF to build service capacity specific to SA, HIV, and Hepatitis prevention services. In FY 2006, all the grantees initiated Steps 1-3 of the SPF, namely conducting a needs assessment, building capacity, and planning how to implement their projects. Once their plans have been approved by their Project Officers they can proceed to Step 4 (implementation) and Step 5 (evaluation). Conducting this cross-site evaluation will assist SAMHSA/CSAP in promoting and disseminating optimally effective prevention programs.

Grantees must also conduct ongoing monitoring and evaluation of their projects to assess program effectiveness including Federal reporting of the Government Performance and Results Act (GPRA) of 1993, the Performance Assessment Rating Tool (PART), SAMHSA/CSAP National Outcome Measures (NOMs), and HIV Counseling and Testing. All of this information will be collected through self-report questionnaires administered to program participants. All grantees will use two instruments, one for youth aged between 12 and 17 and one for adults aged 18 and older. These instruments include baseline, exit and 3-6 month follow-up (post-exit) questionnaires related to GPRA and NOMs augmented by questions pertaining to HIV and Hepatitis. While the GPRA and NOMs measures have already been approved by OMB (OMB No. 0930-0230), the remaining HIV and Hepatitis-related questions have not, hence this data collection. Each questionnaire contains 135 questions, of which 102 relate to HIV and Hepatitis.

Sample size, respondent burden, and intrusiveness have been minimized to be consistent with the cross-site objectives. Procedures are employed to safeguard the privacy and confidentiality of participants. Every effort has been made to coordinate cross-site data collection with local data collection efforts in an attempt to minimize respondent burden.

The cross-site evaluation results will have significant implications for the substance abuse, HIV/AIDS and Hepatitis prevention fields, the allocation of grant funds, and other evaluation activities conducted by multiple Federal, State, and local government agencies. They will be used to develop Federal policy in support of SAMHSA/CSAP program initiatives, inform the public of lessons learned and findings, improve existing programs, and promote replication and dissemination of effective prevention strategies.

The following table shows the estimated annualized burden for data collection.

Response type | Number of respondents | Responses/ respondent | Average burden/response (hours.) | Average annual burden hours.
Youth | 3,400 | 3 | .83 | 8,466
Adults | 3,400 | 3 | .83 | 8,466
Total | 6,800 | n/a | n/a | 16,932
n/a—Not Applicable.

Send comments to Summer King, SAMHSA Reports Clearance Officer, Room 7-1044, 1 Choke Cherry Road, Rockville, MD 20857 AND e-mail her a copy at summer.king@samhsa.hhs.gov. Written comments should be received within 60 days of this notice.

Dated: August 7, 2007.
Elaine Parry,
Acting Director, Office of Program Services.

[FR Doc. E7-16538 Filed 8-21-07; 8:45 am]

BILLING CODE 4162-20-P